SMALL BUSINESS ADMINISTRATION

[Disaster Declaration #14132 and #14133]

Michigan Disaster Number MI-00046

AGENCY: U.S. Small Business Administration.

ACTION: Amendment 1.

SUMMARY: This is an amendment of the Presidential declaration of a major disaster for the State of Michigan (FEMA-4195-DR), dated 09/25/2014.

Incident: Severe STORMS AND FLOODING.

Incident Period: 08/11/2014 through 08/13/2014.

Effective Date: 11/17/2014.

Physical Loan Application Deadline Date: 12/15/2014.

EIDL Loan Application Deadline Date: 06/25/2015.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416

SUPPLEMENTARY INFORMATION: The notice of the President's major disaster declaration for the State of Michigan, dated 09/25/2014 is hereby amended to extend the deadline for filing applications for physical damages as a result of this disaster to 12/15/2014.

All other information in the original declaration remains unchanged.

(Catalog of Federal Domestic Assistance Numbers 59002 and 59008)

James E. Rivera,
Associate Administrator for Disaster Assistance.

[FR Doc. 2014-28331 Filed 12-1-14; 8:45 am]

BILLING CODE 8025-01-P